DEPARTMENT OF THE INTERIOR

National Park Service

National Park Service Subsistence Resource Commission; Meeting

AGENCY: National Park Service, Interior.

ACTION: Notice of meetings for the National Park Service (NPS) Subsistence Resource Commission (SRC) program within the Alaska Region.

SUMMARY: The NPS announces the SRC meeting schedule for the following areas: Denali National Park, Lake Clark National Park, Aniakchak National Monument and Wrangell-St. Elias National Park. The purpose of each meeting is to develop and continue work on NPS subsistence hunting program recommendations and other related subsistence management issues. Each meeting is open to the public and will have time allocated for public testimony. The public is welcomed to present written or oral comments to the SRC. Each meeting will be recorded and a summary will be available upon request from each Superintendent for public inspection approximately six weeks after each meeting. The NPS SRC program is authorized under Title VIII, Section 808 of the Alaska National Interest Lands Conservation Act, Public Law 96-487, to operate in accordance with the provisions of the Federal Advisory Committee Act.

Dates: The Denali National Park SRC meeting will be held on Monday, August 27, 2007, from 9 a.m. to 5 p.m., Alaska Standard Time.

Location: Cantwell Community Center, Cantwell, AK.

For Further Information Contact: Amy Craver, Subsistence Manager, telephone: (907) 683-9544, or Paul Anderson, Superintendent, telephone: (907) 683-2294, at Denali National Park and Preserve, P.O. Box 9, Denali Park, AK 99755.

Dates: The Lake Clark National Park SRC meeting will be held on Thursday, September 20, 2007, from 1 p.m. to 5 p.m., Alaska Standard Time.

Location: Nondalton Community Hall, Nondalton, AK.

For Further Information Contact: Mary McBurney, Subsistence Manager, telephone: (907) 235-7891, or Joel Hard, Superintendent, and Michelle Ravenmoon, Subsistence Coordinator, telephone: (907) 781-2218, at Lake Clark National Park and Preserve, 1 Park Place, Port Alsworth, AK 99653.

Dates: The Aniakchak National Monument SRC meeting will be held on Monday, September 24, 2007, from 1 p.m. to 5 p.m., Alaska Standard Time.

Location: Port Heiden Community Hall, Port Heiden, AK.

For Further Information Contact: Mary McBurney, Subsistence Manager, telephone: (907) 235-7891, or Ralph Moore, Superintendent, telephone: (907) 246-3305, at Aniakchak National Monument and Preserve, P.O. Box 7, King Salmon, AK 99613.

Dates: The Wrangell-St. Elias National Park SRC meeting will be held on Wednesday, October, 10, 2007, from 9 a.m. to 5 p.m., Alaska Standard Time.

Location: Chitina Community Hall, Chitina, AK.

For Further Information Contact: Barbara Cellarius, Subsistence Manager, telephone: (907) 822-7236, or Meg Jensen, Superintendent, telephone: (907) 822-5234, at Wrangell-St. Elias National Park and Preserve, P.O. Box 439, Copper Center, AK 99573.

SUPPLEMENTARY INFORMATION: SRC meeting locations and dates may need to be changed based on weather or local circumstances. If meeting dates and locations are changed notice of each meeting will be published in local newspapers and announced on local radio stations prior to the meeting dates. The meetings may end early if all business is finished.

The agendas for each meeting include the following:

1. Call to order (SRC Chair).

2. SRC Roll Call and Confirmation of Quorum.

3. SRC Chair and Superintendent's Welcome and Introductions.

4. Review and Approve Agenda.

5. Status of SRC Membership.

6. SRC Member Reports.

7. Superintendent and NPS Staff Reports.

8. Federal Subsistence Board Update.

9. State of Alaska Board Actions Update.

10. New Business.

11. Agency and Public Comments.

12. SRC Work Session.

13. Set time and place of next SRC meeting.

Adjournment.

Victor Knox,
Deputy Regional Director, Alaska Region.

[FR Doc. E7-15302 Filed 8-6-07; 8:45 am]

BILLING CODE 4310-EF-P